DEPARTMENT OF JUSTICE

Office of Justice Programs

[OJP (NIJ) Docket No. 1526]

Notice of Draft NIJ Law Enforcement Duty Holster Selection and Application Guide

AGENCY: National Institute of Justice.

ACTION: Notice of Draft NIJ Law Enforcement Duty Holster Selection and Application Guide.

SUMMARY: In an effort to obtain comments from interested parties, the U.S. Department of Justice, Office of Justice Programs, National Institute of Justice (NIJ) will make available to the general public the draft “NIJ Law Enforcement Duty Holster Selection and Application Guide.” The opportunity to provide comments on this document is open to industry technical representatives, law enforcement agencies and organizations, research, development and scientific communities, and all other stakeholders and interested parties. Those individuals wishing to obtain and provide comments on the draft document under consideration are directed to the following Web site: http://www.justnet.org.

DATES: Comments must be received on or before December 13, 2010.

FOR FURTHER INFORMATION CONTACT: Vanessa Castellanos, by telephone at 202-514-5272 [Note: This is not a toll-free telephone number], or by e-mail at vanessa.castellanos@usdoj.gov.

John H. Laub,
Director, National Institute of Justice.

[FR Doc. 2010-28431 Filed 11-10-10; 8:45 am]

BILLING CODE 4410-18-P